DEPARTMENT OF DEFENSE

Office of the Secretary

[DOD-2007-OS-0067]

Privacy Act of 1974; Systems of Records

AGENCY: Defense Finance and Accounting Service, DOD.

ACTION: Notice to amend a system of records.

SUMMARY: The Defense Finance and Accounting Service (DFAS) is proposing to amend a system of records notice to its existing inventory of records systems subject to the Privacy Act of 1974, (5 U.S.C. 552A), as amended.

DATES: This action will be effective without further notice on July 30, 2007 unless comments are received that would result in a contrary determination.

ADDRESSES: Send comments to the FOIA/PA Program Manager, Corporate Communications and Legislative Liaison, Defense Finance and Accounting Service—Denver, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1074 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: June 21, 2007.
C.R. Choate,
Alternative OSD Federal Register Liaison Officer, Department of Defense.

T7333

System name:

Travel Payment System (September 19, 2005, 70 FR 54906).

Changes:

System location:

Delete entry and replace with “Defense Finance and Accounting Service—Indianapolis, 8899 East 56th Street, Indianapolis, IN 46249-0160.

Defense Finance and Accounting Service—Columbus, 3990 East Broad Street, Columbus, OH 43213-1152.”

Categories of individuals covered by the system:

Delete entry and replace with “DoD civilian personnel; active duty, former, and retired military members; Army and Air National Guard personnel; Air Force Academy nominees, applicants, and cadets; dependents of military personnel; and all in receipt of competent government travel orders.”

Categories of records in the system:

Add to entry “Individual's name, Social Security Number (SSN), bank routing number, bank account number.

Authority for maintenance of the system:

Delete entry and replace with “5 U.S.C. Section 301; Departmental Regulations; 37 U.S.C. Section 404, Travel and transportation allowances: general; DOD Directive 5154.29, DoD Pay and Allowances Policy and Procedures; Department of Defense Financial Management Regulation (DoDFMR) 7000.14-R, Volume 9; and E.O. 9397(SSN).”

* * * * *

Policies and practices for storing, retrieving, accessing, retaining, and disposing of records in the system:

Storage:

Delete entry and replace with “Paper records in file folders and electronic storage media”.

* * * * *

Safeguards:

Delete “Centers” and replace with “sites”.

* * * * *

Retention and disposal:

Add to entry “Records are destroyed by degaussing, burning, or shredding.”

System manager(s)and address:

Delete entry and replace with “System Managers, Defense Finance and Accounting Service (DFAS)—Indianapolis, Travel Pay Systems, 8899 East 56th Street, Indianapolis, Indiana 46249-1460.”

Notification procedure:

Delete entry and replace with “Individuals seeking to determine whether information about themselves is contained in this system of records should address written inquiries to Defense Finance and Accounting Service, Freedom of Information/Privacy Act Program Manager, Corporate Communications and Legislative Liaison, 6760 East Irvington Place, Denver, CO 80279-8000.

Individuals should furnish full name, Social Security Number (SSN), current address, and telephone number.”

Record access procedures:

Delete entry and replace with “Individuals seeking access to information about themselves in this system of records should address written inquiries to the Defense Finance and Accounting Service, Freedom of Information/Privacy Act Program Manager, Corporate Communications and Legislative Liaison, 6760 East Irvington Place, Denver, CO 80279-8000.

Individuals should furnish full name, Social Security Number (SSN), current address, and telephone number.”

* * * * *

Record source categories:

Delete entry and replace with “Individual, Department of Defense Military Components such as Army, Air Force, Reserves, National Guard, and Air Force Academy.”

* * * * *

T7333

System name:

Travel Payment System.

System location:

Defense Finance and Accounting Service—Indianapolis, 8899 East 56th Street, Indianapolis, IN 46249-0160.

Defense Finance and Accounting Service—Columbus, 3990 East Broad Street, Columbus, OH 43213-1152

Categories of individuals covered by the system:

DoD civilian personnel; active duty, former, and retired military members; Army and Air National Guard personnel; Air Force Academy nominees, applicants, and cadets; dependents of military personnel; and all in receipt of competent government travel orders.

Categories of records in the system:

Individual's name, Social Security Number (SSN), bank routing number, bank account number, travel vouchers and subvouchers, travel allowance payment lists, travel voucher or subvoucher continuation sheets, vouchers and claims for dependent travel, dislocation or trailer allowances, certificate of non-availability of government quarters and mess, multiple travel payments list, travel payment card, requests for fiscal information concerning transportation requests, bills of lading, meal tickets, public vouchers for fees and claim for reimbursement for expenditures on official business, claim for fees and mileage of witness, certifications for travel under classified orders, travel card envelopes, and statements of adverse effect utilization of government facilities.

Authority for maintenance of the system:

5 U.S.C. Section 301; Departmental Regulations; 37 U.S.C. Section 404, Travel and transportation allowances: general; DOD Directive 5154.29, DoD Pay and Allowances Policy and Procedures; Department of Defense Financial Management Regulation (DoDFMR) 7000.14-R, Volume 9; and E.O. 9397 (SSN).

Purpose(s):

To provide a basis for reimbursing individuals for expenses incident to travel for official Government business purposes and to account for such payments.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Internal Revenue Service to provide information concerning the pay of travel allowances which are subject to federal income tax.

The ‘Blanket Routine Uses’ published at the beginning of the DFAS compilation of systems of records notices apply to this system.

Disclosure to consumer reporting agencies:

Disclosures pursuant to 5 U.S.C. 552a(b)(12) may be made from this system to ‘consumer reporting agencies’ as defined in the Fair Credit Reporting Act, 15 U.S.C. 1681a(f) or the Federal Claims Collection Act of 1966, 31 U.S.C. 3701(a)(3). The purpose of the disclosure is to aid in the collection of outstanding debts owed to the Federal Government; typically, to provide an incentive for debtors to repay delinquent Federal Government debts by making these debts part of their credit records. The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and deposing of records in the system:

Storage:

Paper records in file folders and electronic storage media.

Retrievability:

Retrieved by individual's name and/or Social Security Number (SSN).

Safeguards:

Records are accessed by person(s) responsible for servicing the record, and who are authorized to use the record system in the performance of their official duties. All individuals are properly screened and cleared for need-to-know. Additionally, at some sites, records are in office buildings protected by guards and controlled by screening of personnel and registering of visitors.

Retention and disposal:

Records may be temporary in nature and destroyed when superseded, obsolete, no longer needed, or cut off at the end of the fiscal year and destroyed 6 years and 3 months after cutoff. Records are destroyed by degaussing, burning, or shredding.

System manager(s) and address:

Systems Manager, Defense Finance and Accounting Service (DFAS)—Indianapolis, Travel Pay Systems, 8899 East 56th Street, Indianapolis, Indiana 46249-1460.

Notification procedure:

Individuals seeking to determine whether information about themselves is contained in this system of records should address written inquiries Defense Finance and Accounting Service, Freedom of Information/Privacy Act Program Manager, Corporate Communications and Legislative Liaison, 6760 East Irvington Place, Denver, CO 80279-8000.

Individuals should furnish full name, Social Security Number (SSN), current address, and telephone number.

Record access procedures:

Individuals seeking access to information about themselves in this system of records should address written inquiries to the Defense Finance and Accounting Service, Freedom of Information/Privacy Act Program Manager, Corporate Communications and Legislative Liaison, 6760 East Irvington Place, Denver, CO 80279-8000.

Individuals should furnish full name, Social Security Number(SSN), current address, and telephone number.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Record source categories:

Individual, Department of Defense Military Components such as Army, Air Force, Reserves, National Guard, and Air Force Academy.

Exemptions claimed for the system:

None.

[FR Doc. E7-12512 Filed 6-27-07; 8:45 am]

BILLING CODE 5001-06-P